ENVIRONMENTAL PROTECTION AGENCY

40 CFR Part 2

[FRL-6978-6]

Public Information and Confidentiality: Advance Notice of Proposed Rulemaking; Notice of Reopening of Comment Period

AGENCY: Environmental Protection Agency (EPA).

ACTION: Reopening of comment period.

SUMMARY: On December 21, 2000 (65 FR 80394), EPA published an advance notice of proposed rulemaking (ANPRM) regarding potential revision of the confidential business information (CBI). EPA is reopening the comment period in order to afford the public the opportunity to provide additional comments concerning the ANPRM. The comment period will close on June 13, 2001. We believe it is necessary to reopen the comment period as a courtesy to the public in response to public requests for additional time to consolidate comments on the proposal following the public meeting held on March 7, 2001.

DATES: EPA must receive comments on the ANPRM by June 13, 2001.

ADDRESSES: Written comments should be submitted (in duplicate if possible) to Docket Number EC-2000-004, Enforcement and Compliance Docket and Information Center (ECDIC), U.S. Environmental Protection Agency, 1200 Pennsylvania Ave., NW., Room 4033, Mail Code 2201A, Washington, DC 20460; Phone, 202-564-2614 or 202-564-2119; Fax, 202-501-1011 E-Mail, docket.oeca@epa.gov. Documents related to this advance notice of proposed rulemaking are available for public inspection and viewing by contacting the ECDIC at this same address. The ECDIC is open from 8 a.m. to 4 p.m., Monday through Friday, excluding Federal holidays.

FOR FURTHER INFORMATION CONTACT: Alan Margolis, Office of Information Collection, Office of Environmental Information, U.S. Environmental Protection Agency, 1200 Pennsylvania Ave., NW, Mail Code 2822, Washington, DC 20460; Phone, 202-260-9329; Fax, 202-401-4544; Email, margolis.alan@epa.gov.

Dated: May 7, 2001.
Margaret N. Schneider,
Acting Assistant Administrator, Office of Environmental Information.

[FR Doc. 01-12044 Filed 5-11-01; 8:45 am]

BILLING CODE 6560-50-P